FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 015247N.

Name: Amerindias, Inc.

Address: 5220 NW 72nd Ave., Ste. 3, Miami, FL 33166.

Date Revoked: February 21, 2008.

Reason: Failed to maintain a valid bond.

License Number: 018675N.

Name: Barrow Freight System, Inc.

Address: 1633 Bayshore Hwy., Ste. 123, Burlingame, CA 94010.

Date Revoked: February 19, 2008.

Reason: Failed to maintain a valid bond.

License Number: 020768N.

Name: Continental Services & Carrier Inc.

Address: 5579 NW 72nd Ave., Miami, FL 33166.

Date Revoked: February 3, 2008.

Reason: Failed to maintain a valid bond.

License Number: 014344N.

Name: Cross Trade Freight Forwarding, LLC.

Address: 255 West 36th Street, Ste. 1001, New York, NY 10018.

Date Revoked: January 3, 2008.

Reason: Surrendered license voluntarily.

License Number: 004569N.

Name: D. Kratt International, Inc. dba Dennehy-Kratt Line.

Address: 2500 West Higgins Rd., Ste. 140, Hoffman Estates, IL 60195.

Date Revoked: January 5, 2008.

Reason: Failed to maintain a valid bond.

License Number: 004230NF.

Name: Dart Express (CHI) Inc.

Address: 1001 Nicholas Blvd., Ste. L, Elk Grove Village, IL 60007.

Date Revoked: November 13, 2007.

Reason: Surrendered license voluntarily.

License Number: 003097F.

Name: Donald International Inc.

Address: 5250 W. Century Blvd., Ste. 405, Los Angeles, CA 90045.

Date Revoked: February 14, 2008.

Reason: Failed to maintain a valid bond.

License Number: 018889N.

Name: Fargo Transportation Service

Address: 9660 Flair Drive, Ste. 226, El Monte, CA 91731.

Date Revoked: February 5, 2008.

Reason: Surrendered license voluntarily.

License Number: 018609N.

Name: Great World Int'l Services, Inc.

Address: 236 West Portal Ave., #772, San Francisco, CA 94127.

Date Revoked: February 11, 2008.

Reason: Failed to maintain a valid bond.

License Number: 002305F.

Name: Hub Forwarding Company, Inc.

Address: 165 Beal Street, Hingham, MA 02043.

Date Revoked: February 5, 2008.

Reason: Surrendered license voluntarily.

License Number: 002970F.

Name: John A. Steer, Inc.

Address: 28 South 2nd Street, Philadelphia, PA 19106.

Date Revoked: February 28, 2008.

Reason: Surrendered license voluntarily.

License Number: 020000NF.

Name: KPAC Aerocean, Inc. dba Aerocean Transport Services.

Address: 550 E. Carson Plaza Dr., Ste. 109, Carson, CA 90746.

Date Revoked: February 22, 2008.

Reason: Failed to maintain valid bonds.

License Number: 019353N.

Name: LOF Express, Inc.

Address: 955 Hurricane Shoals Rd., NE., Ste. 107, Lawrenceville, GA 30043.

Date Revoked: February 9, 2008.

Reason: Failed to maintain a valid bond.

License Number: 001573F.

Name: Marquis Surface Corporation.

Address: 147-39 175th Street, Jamaica, NY 11434.

Date Revoked: February 3, 2008.

Reason: Failed to maintain a valid bond.

License Number: 009807N.

Name: Newport Ocean Consolidator Inc. dba Newport Container Line.

Address: 5250 W. Century Blvd., Ste. 602, Los Angeles, CA 90045.

Date Revoked: February 8, 2008.

Reason: Surrendered license voluntarily.

License Number: 016514N.

Name: Rosemark International LLC dba Rosemark Shipping.

Address: 3491 Long Drive, Minden, NV 89432.

Date Revoked: November 28, 2007.

Reason: Failed to maintain a valid bond.

License Number: 014366N.

Name: S & T Freight Management, Inc.

Address: 2002 East Driftstone Drive, Glendora, CA 91740.

Date Revoked: February 11, 2008.

Reason: Failed to meintain a valid bond.

License Number: 003060F.

Name: Servco Pacific Inc.

Address: P.O. Box 2788, Honolulu, HI 96803.

Date Revoked: February 7, 2008.

Reason: Surrendered license voluntarily.

License Number: 019953N.

Name: Speedy Freight Services

Address: 33442 Western Ave., Union City, CA 94587.

Date Revoked: February 9, 2008.

Reason: Failed to maintain a valid bond.

License Number: 017984N.

Name: TW International Inc. dba Dyna Express.

Address: 147-34 176th Street, Jamaica, NY 11434.

Date Revoked: January 28, 2008.

Reason: Surrendered license voluntarily.

License Number: 020069N.

Name: Transpoint LLC.

Address: 5770 Dividend Rd., Indianapolis, IN 46241.

Date Revoked: February 8, 2008.

Reason: Surrendered license voluntarily.

License Number: 017279F.

Name: Unicom Trans, Inc.

Address: 15500 S. Western Ave., Gardena, CA 90249.

Date Revoked: February 23, 2008.

Reason: Failed to maintain a valid bond.

Sandra L. Kusumoto,
Director, Bureau of Certification and Licensing.

[FR Doc. E8-4912 Filed 3-11-08; 8:45 am]

BILLING CODE 6730-01-P